DEPARTMENT OF COMMERCE

National Oceanic and Atmospheric Administration

[RTID 0648-XP012]

Permanent Advisory Committee to Advise the U.S. Commissioners to the Western and Central Pacific Fisheries Commission; Meeting Announcement

AGENCY: National Marine Fisheries Service (NMFS), National Oceanic and Atmospheric Administration (NOAA), Commerce.

ACTION: Notice of public meeting.

SUMMARY: NMFS announces a public meeting of the Permanent Advisory Committee (PAC) to advise the U.S. Commissioners to the Commission for the Conservation and Management of Highly Migratory Fish Stocks in the Western and Central Pacific Ocean (WCPFC) on July 7, 2020. Meeting topics are provided under the SUPPLEMENTARY INFORMATION section of this notice.

DATES: The meeting of the PAC will be held via conference call on July 7, 2020, from 10 a.m. to 12 p.m. Hawaii Standard Time (HST) (or until business is concluded). Members of the public may submit written comments on meeting topics or materials; comments must be received by July 2, 2020.

ADDRESSES: The public meeting will be conducted via conference call. For details on how to call in to the conference line or to submit comments, please contact Emily Reynolds, NMFS Pacific Islands Regional Office; telephone: 808-725-5039; email: emily.reynolds@noaa.gov. Documents to be considered by the PAC will be sent out via email in advance of the conference call. Please submit contact information to Emily Reynolds (telephone: 808-725-5039; email: emily.reynolds@noaa.gov) at least 3 days in advance of the call to receive documents via email.

FOR FURTHER INFORMATION CONTACT: Emily Reynolds, NMFS Pacific Islands Regional Office; 1845 Wasp Blvd., Bldg. 176, Honolulu, HI 96818; telephone: 808-725-5039; facsimile: 808-725-5215; email: emily.reynolds@noaa.gov.

SUPPLEMENTARY INFORMATION: In accordance with the Western and Central Pacific Fisheries Convention Implementation Act (16 U.S.C. 6901 et seq.), the PAC, has been formed to advise the U.S. Commissioners to the WCPFC. The PAC is composed of: (i) Not less than 15 nor more than 20 individuals appointed by the Secretary of Commerce in consultation with the U.S. Commissioners to the WCPFC; (ii) the chair of the Western Pacific Fishery Management Council's Advisory Committee (or the chair's designee); and (iii) officials from the fisheries management authorities of American Samoa, Guam, and the Northern Mariana Islands (or their designees). The PAC supports the work of the U.S. National Section to the WCPFC in an advisory capacity. The U.S. National Section is made up of the U.S. Commissioners and the Department of State. NMFS Pacific Islands Regional Office provides administrative and technical support to the PAC in cooperation with the Department of State. More information on the WCPFC, established under the Convention on the Conservation and Management of Highly Migratory Fish Stocks in the Western and Central Pacific Ocean, can be found on the WCPFC website: http://www.wcpfc.int.

Meeting Topics

The purpose of the July 7, 2020, conference call is to discuss U.S. priorities leading up to the 2020 regular session of the WCPFC (WCPFC17) and potential management measures for tropical tunas and other issues of interest.

Special Accommodations

The conference call is accessible to people with disabilities. Requests for sign language interpretation or other auxiliary aids should be directed to Emily Reynolds at 808-725-5039 by June 23, 2020.

(Authority: 16 U.S.C. 6902 et seq.)

Dated: May 26, 2020.
Hélène M.N. Scalliet,
Acting Director, Office of Sustainable Fisheries, National Marine Fisheries Service.

[FR Doc. 2020-11632 Filed 5-29-20; 8:45 am]

BILLING CODE 3510-22-P